FEDERAL COMMUNICATIONS COMMISSION

47 CFR Part 73

[DA 06-843; MB Docket No. 05-133; RM-11206]

Radio Broadcasting Services; Abilene and Burlingame, KS

AGENCY: Federal Communications Commission.

ACTION: Final rule.

SUMMARY: This document grants a petition filed by MCC Radio, LLC, licensee of Station KSAJ(FM), Channel 253C1, Abilene, Kansas, requesting the reallotment of Channel 253C1 from Abilene to Burlingame, Kansas, as its first local service and modification of the Station KSAJ(FM) license accordingly. Channel 253C1 can be allotted to Burlingame in conformity with the Commission's rules, provided there is a site restriction of 17.7 kilometers (11 miles) northwest of the community, using reference coordinates 38-52-29 NL and 95-58-05 WL.

DATES: Effective May 30, 2006.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 05-133, adopted April 12, 2006, and released April 14, 2006. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington, DC, 20054, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of Title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Kansas, is amended by removing Abilene, Channel 253C1 and by adding Burlingame, Channel 253C1.

Federal Communications Commission.
John A. Karousos,
Assistant Chief, Audio Division, Media Bureau.

[FR Doc. 06-4170 Filed 5-2-06; 8:45 am]

BILLING CODE 6712-01-P